DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10 (a)(1)(A) of the Endangered Species Act of 1973, as amended (16 U.S.C. 1531 et seq.).

Permit No. TE-023904

Applicant: USDI Bureau of Land Management, North Palm Springs, California

The applicant requests a permit to take (survey by pursuit) the Quino checkerspot butterfly (Euphydryas editha quino) in conjunction with presence or absence surveys throughout its range for the purpose of enhancing its survival.

Permit No. TE-023895

Applicant: Paul W. Collins, Santa Ynez, California

The applicant requests a permit to take (capture and handle) the California tiger salamander (Ambystoma californiense) in conjunction with presence or absence surveys in Santa Barbara County, California for the purpose of enhancing its survival.

Permit No. TE-023892

Applicant: Lawrence Edward Hunt, Santa Barbara, California

The applicant requests a permit to take (capture and handle) the California tiger salamander (Ambystoma californiense) in conjunction with presence or absence surveys in Santa Barbara County, California for the purpose of enhancing its survival.

Permit No. TE-023886

Applicant: San Diego Natural History Museum, San Diego, California

The applicant requests a permit to take (capture, handle, and collect tissue samples) the arroyo southwestern toad (Bufo californicus) in conjunction with surveys, population monitoring, ecological research, and population augmentation throughout the species range for the purpose of enhancing its survival.

Permit No. TE-018909

Applicant: Kelly Michelle Rios, Brea, California

The permittee requests a permit amendment to take (survey by pursuit) the El Segundo blue butterfly (Euphilotes battoides allyni) in conjunction with presence or absence surveys throughout its range for the purpose of enhancing its survival.

Permit No. TE-817397

Applicant: John R. Storrer, Santa Barbara, California

The permittee requests a permit amendment to take (capture and handle) the California tiger salamander (Ambystoma californiense) in conjunction with presence or absence surveys in Santa Barbara County, California for the purpose of enhancing its survival.

Permit No. TE-009015

Applicant: Jason Lee Berkley, Whittier, California

The permittee requests a permit amendment to take (capture and handle) the arroyo southwestern toad (Bufo microscaphus californicus) in conjunction with presence or absence surveys throughout its range for the purpose of enhancing its survival.

Permit No. TE-815144

Applicant: Rosemary Ann Thompson, Santa Barbara, California

The permittee requests a permit amendment to take (capture and handle) the California tiger salamander (Ambystoma californiense) in conjunction with presence or absence surveys in Santa Barbara County, California for the purpose of enhancing its survival.

Permit No. TE-826513

Applicant: Galen Rathbun, Bakersfield, California

The permittee requests a permit amendment to take (radio-tag) the blunt-nosed leopard lizard (Gambelia sila) in Kern County, California in conjunction with ecological research for the purpose of enhancing its survival.

Permit No. TE-768251

Applicant: Biosearch Wildlife Surveys, Santa Cruz, California

The permittee requests a permit amendment to take (capture, mark) the Tipton kangaroo rat (Dipodomys nitratoides nitratoides) in conjunction with population studies throughout the species range in California for the purpose of enhancing its survival.

Permit No. 022615

Applicant: Robert L. Calloway, Leonardtown, Maryland

The applicant requests a permit to purchase, in interstate commerce, two female and two male captive bred Hawaiian (=nene) geese (Nesochen [=Branta] sandvicensis) for the purpose of enhancing the species propagation and survival.

Permit No. TE-702631

Applicant: Assistant Regional Director-Ecological Services, Region 1, U.S. Fish and Wildlife Service, Portland, Oregon

The permittee requests a permit amendment to remove and reduce to possession specimens of the following plant species: Cirsium loncholepis (La Graciosa thistle), Eriodictyon capitatum (Lompoc yerba santa), Hemizonia increscens ssp. villosa (Gaviota tarplant), and Lupinus nipomensis (Nipomo Mesa lupine). Collection activities will be conducted throughout each species range in conjunction with recovery efforts for the purpose of enhancing their propagation and survival.

Permit No. TE-025182

Applicant: Ecosphere Environmental Services, Durango, Colorado

The applicant requests a permit to take (harass by survey) the southwestern willow flycatcher (Empidonax extimus traillii) in conjunction with presence or absence surveys throughout the species range in California for the purpose of enhancing its survival.

Permit No. TE-025197

Applicant: Lockheed Martin Environmental Service, Las Vegas, Nevada

The applicant requests a permit to take (harass by survey, capture and handle, collect tissue samples, and collect voucher specimens) the desert pupfish (Cyprinodon macularius), Gila topminnow (Poeciliopsis occidentalis), Gila trout (Oncorhynchus gilae), and Humpback chub (Gila cypha) in conjunction with presence or absence surveys and scientific research throughout each species range for the purpose of enhancing their survival.

Permit No. TE-776608

Applicant: Monk and Associates, Walnut Creek, California

The permittee requests a permit amendment to take (capture and handle) the California tiger salamander (Ambystoma californiense) in conjunction with presence or absence surveys in Santa Barbara County, California for the purpose of enhancing its survival.

Permit No. TE-025204

Applicant: Linda Ann Vorobik, Lopez Island, Washington

The applicant requests a permit to remove and reduce to possession specimens of Arabis macdonaldiana in conjunction with genetic research and the collection of voucher specimens throughout the species range for the purpose of enhancing its survival.

Permit No. TE-685022

Applicant: Rudi Mattoni, University of California, Los Angeles, California

The permittee requests a permit amendment to take (survey by pursuit, harass, collect for captive propagation, handle, captive rear, and release) the Palos Verdes blue butterfly (Glaucopsyche lygdamus palosverdesensis) in conjunction with presence and absence surveys and scientific research throughout its range for the purpose of enhancing its survival.

Permit No. TE-025203

Applicant: David J. Griffin, Alpine, California

The applicant requests a permit to take (harass by survey, collect and sacrifice) the San Diego fairy shrimp (Brachinecta sandiegonensis) and the Riverside fairy shrimp (Streptocephalus woottoni) in conjunction with surveys in Riverside and San Diego Counties, California for the purpose of enhancing their survival.

Permit No. TE-025202

Applicant: Janette Holtz, San Diego, California

The applicant requests a permit to take (harass by survey, collect and sacrifice) the San Diego fairy shrimp (Brachinecta sandiegonensis) and the Riverside fairy shrimp (Streptocephalus woottoni) in conjunction with surveys and population monitoring in San Diego County, California for the purpose of enhancing their survival.

Permit No. TE-025201

Applicant: Bonnie Ripley, San Diego, California

The applicant requests a permit to take (harass by survey, collect and sacrifice) the San Diego fairy shrimp (Brachinecta sandiegonensis) and the Riverside fairy shrimp (Streptocephalus woottoni) in conjunction with surveys and population monitoring in San Diego County, California for the purpose of enhancing their survival.

DATES: Written comments on these permit applications must be received on or before May 17, 2000.

ADDRESSES: Written data or comments should be submitted to the Chief—Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: April 6, 2000.
Thomas Dwyer,
Regional Director, Region 1, Portland, Oregon.

[FR Doc. 00-9458 Filed 4-15-00; 8:45 am]

BILLING CODE 4310-55-U